DEPARTMENT OF THE INTERIOR

Bureau of Indian Affairs

[178A2100DD/AAKC001030/A0A501010.999900 253G]

Court of Indian Offenses Serving the Wind River Indian Reservation

AGENCY: Bureau of Indian Affairs, Interior.

ACTION: Notice of Waiver of Certain Parts of 25 CFR Part 11.

SUMMARY: This notice accompanies the interim final rule establishing a Court of Indian Offenses (also known as CFR Court) for the Wind River Indian Reservation. It waives the application of certain sections of the regulations for the Court of Indian Offenses serving the Wind River Indian Reservation to allow BIA to establish a CFR court when necessary. It will also allow the Assistant Secretary—Indian Affairs to appoint a magistrate without the need for confirmation by the tribal governing body.

DATES: This notice is effective on October 27, 2016.

FOR FURTHER INFORMATION CONTACT: Ms. Elizabeth Appel, Director, Office of Regulatory Affairs & Collaborative Action—Indian Affairs, (202) 273-4680; elizabeth.appel@bia.gov.

SUPPLEMENTARY INFORMATION: Courts of Indian Offenses operate in those areas of Indian country where tribes retain jurisdiction over Indians that is exclusive of State jurisdiction but where tribal courts have not been established to fully exercise that jurisdiction. The Eastern Shoshone Tribe and the Northern Arapaho Tribe have a joint interest in the Wind River Indian Reservation; however, the current tribal court operating on the reservation, the Shoshone & Arapaho Tribal Court, is currently operating without the support of both Tribes, and with limited resources. To ensure the continued administration of justice on the Reservation, BIA is taking steps to ensure that judicial services will continue to be provided if the Shoshone & Arapaho Tribal Court ceases operations. Therefore, the Secretary has determined, in her discretion, that it is necessary to waive 25 CFR 11.104(a) and 25 CFR 11.201(a) on the Wind River Indian Reservation to ensure that the Bureau of Indian Affairs can establish and operate a Court of Indian Offenses immediately in the event that the Shoshone and Arapaho Tribal Court ceases operations.

Section 11.104(a) provides that 25 CFR part 11 applies to Tribes listed in § 11.100 until either BIA and the Tribe enter into a contract or compact for the Tribe to provide judicial services, or until the Tribe has put into effect a law-and-order code that meets certain requirements.

Section 11.201(a) provides that the Assistant Secretary—Indian Affairs appoints a magistrate subject to confirmation by a majority vote of the Tribal governing bodies.

The waiver will allow BIA to establish a CFR court when necessary and to allow the Assistant Secretary—Indian Affairs to appoint a magistrate without the need for confirmation by the Tribal governing body.

Dated: October 17, 2016.
Lawrence S. Roberts,
Principal Deputy Assistant Secretary, Indian Affairs.

[FR Doc. 2016-26041 Filed 10-26-16; 8:45 am]

BILLING CODE 4337-15-P